DEPARTMENT OF COMMERCE

National Oceanic and Atmospheric Administration

50 CFR Part 600

[I.D. 070703B]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Black Sea Bass Fishery Management Plan (FMP). However, further review and consultation may be necessary before a final determination is made to issue the EFP. Therefore, NMFS announces that the Assistant Regional Administrator proposes to recommend that an EFP be issued that would allow three vessels to conduct fishing operations that are otherwise restricted by the regulations governing the fisheries of the Northeastern United States. The EFP would allow for exemptions from the minimum fish size requirement for the retention of undersized fish for data collection purposes. The EFP would allow this exemption for approximately 250 lb (114 kg) of undersized (juvenile) black sea bass (Centropristis striata) for the remainder of the 2003 fishing year. Regulations under the Magnuson-Stevens Fishery Conservation and Management Act require publication of this notification to provide interested parties the opportunity to comment on applications for proposed EFPs.

DATES: Comments on this document must be received on or before August 4, 2003.

ADDRESSES: Written comments should be sent to Patricia A. Kurkul, Regional Administrator, NMFS, Northeast Regional Office, 1 Blackburn Drive, Gloucester, MA 01930. Mark the outside of the envelope “Comments on VIMS Black Sea Bass Population Biology EFP Proposal.” Comments may also be sent via facsimile (fax) to (978) 281-9135.

FOR FURTHER INFORMATION CONTACT: Brian Hooker, Fishery Management Specialist, phone 978-281-9220.

SUPPLEMENTARY INFORMATION: The Virginia Institute of Marine Science (VIMS) submitted an application for an EFP on June 23, 2003, with final revisions received June 24, 2003. The experimental fishing application requests authorization to allow the collection of undersized (juvenile) black sea bass for research into the reproductive biology and population dynamics of black sea bass. The VIMS researchers propose to enlist three fishing vessels to retain 25-50 lb (12-23 kg) of undersized black sea bass each month during the participation period (August 1-December 31, 2003). This would result in a maximum retention of 250 lb (114 kg) of under-sized black sea bass for the 2003 fishing year. The collections would take place using handline and fish pot fishing gear under the normal fishing operations of the participating vessels. The collections would take place off the coasts of Virginia and North Carolina in 30-minute squares 11, 12, 15, 16, 19, 20, 25, and 26. The participating vessels would be required to comply with applicable state landing laws and report all landings on the Federal Fishing Vessel Trip Report.

Based on the results of this EFP, this action may lead to future rulemaking.

Authority: 16 U.S.C. 1801 et seq.

Dated: July 14, 2003.
Bruce C. Morehead,
Acting Director, Office of Sustainable Fisheries, National Marine Fisheries Service.

[FR Doc. 03-18339 Filed 7-17-03; 8:45 am]

BILLING CODE 3510-22-S